DEPARTMENT OF COMMERCE

National Oceanic and Atmospheric Administration

50 CFR Part 648

[I.D. 122304D]

RIN 0648-AN25

Magnuson-Stevens Fishery Conservation and Management Act Provisions; Fisheries of the Northeastern United States; Monkfish Fishery; Amendment 2 to the Monkfish Fishery Management Plan

AGENCY: National Marine Fisheries Service (NMFS), National Oceanic and Atmospheric Administration (NOAA), Commerce.

ACTION: Notice of availability of a fishery management plan amendment; request for comments.

SUMMARY: NMFS announces that the New England Fishery Management Council (NEFMC) and the Mid-Atlantic Fishery Management Council (MAFMC) have submitted Amendment 2 to the Monkfish Fishery Management Plan (FMP) (Amendment 2) incorporating the draft Final Supplemental Environmental Impact Statement (FSEIS), Regulatory Impact Review (RIR), and the Initial Regulatory Flexibility Analysis (IRFA), for Secretarial review and is requesting comments from the public. Amendment 2 was developed to address essential fish habitat (EFH) and bycatch issues, and to revise the FMP to address several issues raised during the public scoping process. The intent of this action is to provide efficient management of the monkfish fishery and to meet conservation objectives.

DATES: Comments must be received on or before March 3, 2005.

ADDRESSES: Written comments on the proposed interim rule may be submitted by any of the following methods:

• E-mail: E-mail comments may be submitted to http://monkamend2@noaa.gov. Include in the subject line the following: “Comments on the Monkfish Amendment 2.”

• Federal e-Rulemaking Portal: http://www.regulations.gov.

• Mail: Comments submitted by mail should be sent to Patricia A. Kurkul, Regional Administrator, Northeast Region, NMFS, One Blackburn Drive, Gloucester, MA 01930-2298. Mark the outside of the envelope “Comments on the Monkfish Amendment 2.”

• Facsimile (fax): Comments submitted by fax should be faxed to (978) 281-9135.

Copies of Amendment 2, the FSEIS, RIR, and IRFA are available from Paul J. Howard, Executive Director, New England Fishery Management Council, 50 Water Street, Newburyport, MA 01950. These documents are also available online at http://www.nefmc.org.

FOR FURTHER INFORMATION CONTACT: Allison R. Ferreira, Fishery Policy Analyst, (978) 281-9103; fax (978) 281-9135; e-mail: allison.ferreira@noaa.gov.

SUPPLEMENTARY INFORMATION: A notice of availability for the Draft Supplemental Environmental Impact Statement (DSEIS) for Amendment 2 was published in the Federal Register on April 30, 2004 (69 FR 23571), with public comment accepted through July 28, 2004. After considering all comments on the DSEIS, the NEFMC and MAFMC adopted the final measures to be included in Amendment 2 at their respective September 14-16, 2004, and October 4-6, 2004, meetings, and voted to submit the Amendment 2 document, including the FSEIS, to NMFS.

The NEFMC and MAFMC developed Amendment 2 to address a number of issues that arose out of the implementation of the original FMP, as well as issues that were identified during public scoping. Issues arising from the original FMP include: (1) The displacement of vessels from their established monkfish fisheries due to restrictive trip limits; (2) unattainable permit qualification criteria for vessels in the southern end of the range of the fishery; (3) discards (bycatch) of monkfish due to regulations (i.e., minimum size restrictions and incidental catch limits); and (4) deficiencies in meeting Magnuson-Stevens Fishery Conservation and Management Act (Magnuson-Stevens Act) requirements pertaining to protection of EFH in accordance with the Joint Stipulation and Order resulting from the legal challenge American Oceans Campaign, et al. v. Daley. Issues arising from public scoping include: (1) Deficiencies in meeting Magnuson-Stevens Act requirements, including preventing overfishing and rebuilding overfished stocks; (2) a need to improve monkfish data collection and research; (3) the need to establish a North Atlantic Fisheries Organization (NAFO) exemption program for monkfish; multiple vessel baseline specifications for limited access monkfish vessels; (4) a need to update environmental documents describing the impact of the FMP; and, (5) a need to reduce FMP complexity where possible.

Amendment 2 evaluates and includes the following measures to minimize the adverse effects of fishing on EFH: A maximum disc diameter of 6 inches (15.2 cm) for trawl gear vessels fishing in the Southern Fishery Management Area (SFMA); and closure of two deep-sea canyon areas to all gears when fishing under the monkfish day-at-sea (DAS) program. Amendment 2 also proposes the following management measures: (1) A new limited access permit for qualified vessels fishing south of 38o 20' N. lat.; (2) an offshore trawl fishery in the SFMA; establishment of a research DAS set-aside program; (3) an exemption program for vessels fishing outside of the Exclusive Economic Zone; (4) adjustments to the incidental monkfish catch limits; a decrease in the minimum monkfish size in the SFMA; (5) removal of the 20-day block requirement; revisions to the monkfish baseline provisions; and (6) additions to the frameworable measures.

Public comments are being solicited on Amendment 2 and its incorporated documents through the end of the comment period stated in this notice of availability. A proposed rule that would implement Amendment 2 may be published in the Federal Register for public comment, following NMFS's evaluation of the proposed rule under the procedures of the Magnuson-Stevens Act. Public comments on the proposed rule must be received by the end of the comment period provided in this notice of availability of Amendment 2 to be considered in the approval/disapproval decision on the amendment. All comments received by March 3, 2005, whether specifically directed to Amendment 2 or the proposed rule, will be considered in the approval/disapproval decision on Amendment 2. Comments received after that date will not be considered in the decision to approve or disapprove Amendment 2. Therefore, to be considered, comments must be received by close of business on the last date of the comment period, March 3, 2005; that does not mean postmarked or otherwise transmitted by that date.

Authority: 16 U.S.C. 1801 et seq.

Dated: December 27, 2004.
Alan D. Risenhoover,
Acting Director, Office of Sustainable Fisheries, National Marine Fisheries Service.

[FR Doc. 04-28738 Filed 12-30-04; 8:45 am]

BILLING CODE 3510-22-S